DEPARTMENT OF JUSTICE

[OMB Number 1110-NEW]

Agency Information Collection Activities; Proposed eCollection eComments Requested; Approval of a New Collection; Private Industry Feedback Survey

AGENCY: Bureau of Justice Statistics, Department of Justice.

ACTION: 60-day notice.

SUMMARY: The Department of Justice (DOJ), Federal Bureau of Investigation (FBI), Cyber Division (CyD), will be submitting the following information collection request to the Office of Management and Budget (OMB) for review and approval in accordance with the Paperwork Reduction Act of 1995. The proposed information collection is published to obtain comments from the public and affected agencies.

DATES: Comments are encouraged and will be accepted for 60 days until June 15, 2015.

FOR FURTHER INFORMATION CONTACT: If you have additional comments especially on the estimated public burden or associated response time, suggestions, or need a copy of the proposed information collection instrument with instructions or additional information, please contact Paul Konschak, FBI Cyber Division, Cyber Outreach Section, 935 Pennsylvania Ave. NW., Washington, DC 20535 (facsimile: 703-633-5796).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Approval of a new collection.

2. The Title of the Form/Collection: 2013 Private Industry Feedback Survey.

3. The agency form number, if any, and the applicable component of the Department sponsoring the collection: There will not be a form number on the survey.

4. Affected public who will be asked or required to respond, as well as a brief abstract: The FBI, Cyber Division, produces reports that provide information related to cyber trends and threats for private sector partners. The reports are referred to as Private Industry Notifications (PINs) and FBI Liaison Alert Systems (FLASHs). In order to improve the PIN/FLASH reports, a “Feedback” Section will be added to the reports which will contain a URL that will link to a voluntary on-line survey. The results of the survey will be reviewed by CyD and used to improve future reports to better serve the FBI's private sector partners.

5. An estimate of the total number of respondents and the amount of time estimated for an average respondent to respond: An estimated 5,000 respondents will complete the survey. It is estimated that it will take each respondent 3 minutes to complete the survey.

6. An estimate of the total public burden (in hours) associated with the collection: The estimated public burden associated with this collection is 250 hours.

If additional information is required contact: Jerri Murray, Department Clearance Officer, United States Department of Justice, Justice Management Division, Policy and Planning Staff, Two Constitution Square, 145 N Street NE., 3E.405B, Washington, DC 20530.

Dated: April 8, 2015.
Jerri Murray,
Department Clearance Officer for PRA, U.S. Department of Justice.

[FR Doc. 2015-08415 Filed 4-13-15; 8:45 am]

BILLING CODE 4410-02-P